ENVIRONMENTAL PROTECTION AGENCY

[EPA-R02-OAR-2022-0715; FRL-10145-01-R2]

Adequacy Status of Motor Vehicle Emissions Budgets for the New York Portion of the New York-Northern New Jersey-Long Island, NY-NJ-CT 2008 8-Hour Ozone Nonattainment Area

AGENCY: Environmental Protection Agency (EPA).

ACTION: Notice of adequacy.

SUMMARY: In this notice, the EPA is notifying the public that it has found that the 2020 motor vehicle emissions budgets for volatile organic compounds (VOCs) and nitrogen oxides (NOX), submitted by the New York State Department of Environmental Conservation on November 29, 2021, for the 2008 national ambient air quality standard (NAAQS) for ozone (the Budgets), are adequate for transportation conformity purposes for the New York portion of the New York-Northern New Jersey-Long Island, NY-NJ-CT 8-hour ozone nonattainment area. This revision to the SIP included 2020 summer day VOC and NOX Budgets associated with the SIP's reasonable further progress demonstration.

DATES: This finding is effective December 8, 2022.

ADDRESSES: Publicly available docket materials, identified by Docket ID Number EPA-R02-OAR-2022-0715, are available either electronically through www.regulations.gov or in hard copy at the EPA Docket Center, WJC West Building, Room 3334, 1301 Constitution Ave. NW, Washington, DC. The Docket Center's hours of operations are 8:30 a.m.-4:30 p.m., Monday-Friday (except Federal holidays). For further information on the EPA Docket Center services and the current status, see: https://www.epa.gov/dockets. You may access this Federal Register document electronically from https://www.federalregister.gov/documents/current. This finding will also be available at the EPA's conformity website: https://www.epa.gov/state-and-local-transportation/state-implementation-plans-sip-submissions-currently-under-epa#newyork-ny-nj-ct.

FOR FURTHER INFORMATION CONTACT: Lily Black, Environmental Protection Agency Region 2, Air and Radiation Division, 290 Broadway, 25th Floor, New York, New York 10007-1866; (212) 637-3884, black.lily@epa.gov.

SUPPLEMENTARY INFORMATION: Throughout this document, whenever “we,” “us,” or “our” is used, we mean the EPA.

Today's notice is an announcement of a finding that we have already made. EPA Region 2 sent a letter to the New York Department of Environmental Conservation on July 26, 2022, stating that the 2020 motor vehicle emissions budgets (“Budgets”) are adequate for transportation conformity purposes.

The transportation conformity rule requires that the EPA conduct a public process and make an affirmative decision on the adequacy of these budgets before they can be used by metropolitan planning organizations in transportation conformity determinations.

As a result of this finding, upon the effective date of this notice of adequacy, the New York Metropolitan Transportation Council (NYMTC) must use the Budgets in future transportation conformity determinations. The Budgets are associated with the reasonable further progress milestone demonstration.

We announced availability of the plan and related Budgets on the EPA's transportation conformity website on March 8, 2022, requesting comments by April 8, 2022. We received no comments in response to the adequacy review posting.

The Budgets are provided in Table 1.

Table 1—Motor Vehicle Emissions Budgets for NYMTC
[tons per day]
Year | NOX | VOC
2020 | 89.07 | 54.51

Transportation conformity is required by Clean Air Act section 176(c), 42 U.S.C. 7506(c). The EPA's conformity rule requires that long-range transportation plans, transportation improvement programs, and transportation projects conform to a state's air quality SIP and establishes the criteria and procedures for determining whether or not they conform. Conformity to a SIP means that transportation activities will not produce new air quality violations, worsen existing violations, or delay timely attainment of the NAAQS. See id. at section 7506(c)(1)(B).

The criteria the EPA uses to determine whether a SIP's motor vehicle emission budgets are adequate for conformity purposes are outlined in 40 CFR 93.118(e)(4).¹ And we have described our process for determining the adequacy of submitted SIP budgets in 40 CFR 93.118(f). Under 40 CFR 93.104(e), within 2 years of the effective date of this notice, NYMTC and the U.S. Department of Transportation will need to demonstrate conformity to the Budgets. To do so, the on-road motor vehicle emissions from implementation of the long-range transportation plan should be projected consistently with the Budgets.

¹ An adequacy review is separate from the EPA's completeness review and should not be used to prejudge the EPA's ultimate action on the SIP. Even if we find a budget adequate, the SIP could later be disapproved.

Authority: 42 U.S.C. 7401-7671q.

Lisa Garcia,
Regional Administrator, Region 2.

[FR Doc. 2022-25605 Filed 11-22-22; 8:45 am]

BILLING CODE 6560-50-P